FEDERAL COMMUNICATIONS COMMISSION

47 CFR Part 73

[DA 06-1486; MB Docket No. 05-154; RM-11224; RM-11250]

Radio Broadcasting Service: Austwell, Refugio, and Victoria, TX

AGENCY: Federal Communications Commission.

ACTION: Final rule.

SUMMARY: The Audio Division, at the request of Petitioner Katherine Pyeatt grants her request for dismissal of her petition for rulemaking to allot Channel 290A at Victoria, Texas. In addition, the Audio Division grants a timely filed counterproposal filed by Voz de la Raza and allots Channel 290A at Austwell, Texas, as the community's first local service. Channel 290A can be allotted to Austwell in compliance with the Commission's minimum distance separation requirements at 28-23-40 North Latitude and 96-41-17 West Longitude with a site restriction of 15.1 kilometers (9.4 miles) east of Austwell. Mexican concurrence has been requested but not obtained. To accommodate this allotment, the coordinates of vacant Channel 291 at Refugio, Texas are changed to 28-19-44 North Latitude and 97-24-54 West Longitude with a site restriction of 14.1 kilometers (8.8 miles) west of Refugio. Mexican concurrence was previously obtained. A filing window for Channel 290A at Austwell will not be opened at this time. Instead, the issue of opening a filing window for this channel will be addressed by the Commission in a subsequent order.

DATES: Effective September 5, 2006.

ADDRESSES: Secretary, Federal Communications Commission, 445 Twelfth Street, SW., Washington, DC 20554.

FOR FURTHER INFORMATION CONTACT: Helen McLean, Media Bureau, (202) 418-2738.

SUPPLEMENTARY INFORMATION: This is a synopsis of the Commission's Report and Order, MB Docket No. 05-154, adopted July 19, 2006, and released July 21, 2006. The full text of this Commission decision is available for inspection and copying during regular business hours at the FCC's Reference Information Center, Portals II, 445 Twelfth Street, SW., Room CY-A257, Washington, DC 20554. The complete text of this decision may also be purchase from the Commission's duplicating contractor, Best Copy and Printing, Inc., 445 12th Street, SW., Room CY-B402, Washington, DC 20554, telephone 1-800-378-3160 or http://www.BCPIWEB.com. The Commission will send a copy of this Report and Order in a report to be sent to Congress and the Government Accountability Office pursuant to the Congressional Review Act, see 5 U.S.C. 801(a)(1)(A).

List of Subjects in 47 CFR Part 73

Radio, Radio broadcasting.

As stated in the preamble, the Federal Communications Commission amend 47 CFR part 73 as follows:

PART 73—RADIO BROADCAST SERVICES

1. The authority citation for part 73 continues to read as follows:

Authority 47 U.S.C. 154, 303, 334, 336.

§ 73.202 [Amended]

2. Section 73.202(b), the Table of FM Allotments under Texas, is amended by adding Austwell, Channel 290A.

Federal Communications Commission.
John A. Karousos,
Assistant Chief, Audio Division, Media Bureau.

[FR Doc. 06-6768 Filed 8-8-06; 8:45 am]

BILLING CODE 6712-01-M